FEDERAL FINANCIAL INSTITUTIONS EXAMINATION COUNCIL

[Docket No. AS19-02]

Appraisal Subcommittee Notice of Special Meeting

AGENCY: Appraisal Subcommittee of the Federal Financial Institutions Examination Council.

ACTION: Notice of Special Meeting.

Description: In accordance with Section 1104 (b) of Title XI of the Financial Institutions Reform, Recovery, and Enforcement Act of 1989, as amended, notice is hereby given that the Appraisal Subcommittee (ASC) met for a Special Meeting on this date:

Location: Conference Call.

Date: April 15, 2019.

Time: 12:55 p.m.

Action and Discussion Item

North Dakota Temporary Waiver Request

The ASC convened a Special Meeting to take a vote on whether a request for Temporary Waiver was received by the ASC that would require publication in the Federal Register for public comment. By rule, the agency is to take prompt action on a request for Temporary Waiver. By reason of the vote taken in the Special Meeting, notice is required to be published in the Federal Register to seek public comment for a 30-day comment period on the request for Temporary Waiver prior to a determination by the ASC whether to grant or deny the request.

Dated: April 16, 2019.
James R. Park,
Executive Director.

[FR Doc. 2019-07923 Filed 4-18-19; 8:45 am]

BILLING CODE 6700-01-P